DEPARTMENT OF HOMELAND SECURITY

Coast Guard

33 CFR Part 165

[Docket No. USCG-2025-0354]

Safety Zones; Recurring Safety Zones in Captain of the Port Northern Great Lakes Zone

AGENCY: Coast Guard, DHS.

ACTION: Notification of enforcement of regulation.

SUMMARY: The Coast Guard will enforce various safety zones for maritime events in the Captain of the Port Northern Great Lakes. Enforcement of these safety zones is necessary to protect the safety of life and property on the navigable waters immediately prior to, during, and immediately after this event. During the period, the Coast Guard will enforce restrictions upon, and control movement of, vessels in a specified area immediately prior to, during, and immediately after events. During each enforcement period, vessels must stay out of the established safety zone and may only enter with permission from the designated representative of the Captain of the Port Northern Great Lakes.

DATES: The regulations in 33 CFR 165.918 will be enforced for the safety zones identified in the SUPPLEMENTARY INFORMATION section on the dates and times specified.

FOR FURTHER INFORMATION CONTACT: If you have questions about this publication, call or email Waterways Management division, LT Rebecca Simpson, Coast Guard Sector Northern Great Lakes, U.S. Coast Guard; telephone 906-635-3223, email ssmprevention@uscg.mil.

SUPPLEMENTARY INFORMATION: The Coast Guard will enforce the following annual safety zones in the Captain of the Port Northern Great Lakes Zone listed in table to 33 CFR 165.918:

Event No. (2): Jordan Valley Freedom Festival Fireworks (East Jordan, MI) from 10 p.m. to 10:30 p.m. on June 28, 2025 with a rain date of June 29, 2025).

Event No. (3): Grand Marais Splash In (Grand Marais, MI) from 1 p.m. to 5 p.m. on June 14, 2025.

Event No. (4): Festival of Fireworks Celebration Fireworks (St. Ignace, MI) from 8:30 p.m. to 9:30 p.m., beginning every Saturday from June 28, 2025 through August 30, 2025.

Event No. (6): National Cherry Festival Airshow (Traverse City, MI) from noon to 4 p.m. on June 28, 2025.

In accordance with the requirements in § 165.918, entry into, transiting, or anchoring within any of the safety zones is prohibited unless authorized by the Captain of the Port (COTP) Northern Great Lakes or a designated representative. Those seeking permission to enter the safety zones may request permission from the COTP Northern Great Lakes or a designated representative. Vessels and persons granted permission to enter the safety zones must obey all lawful orders or directions of the Captain of the Port Northern Great Lakes or a designated representative. While within the safety zones, all vessels must operate at the minimum speed necessary to maintain a safe course.

In addition to this notice of enforcement in the Federal Register, the Coast Guard will provide the maritime community with advance notification of this enforcement period via Broadcast Notice to Mariners or Local Notice to Mariners. If the COTP Northern Great Lakes determines that the safety zones need not be enforced for the full duration stated in this notice, he or she may suspend such enforcement and notify the public of the suspension via Broadcast Notice to Mariners and grant general permission to enter the safety zones.

Dated: April 24, 2025.
J.R. Bendle,
Captain, U.S. Coast Guard, Captain of the Port Sector Northern Great Lakes.

[FR Doc. 2025-07881 Filed 5-5-25; 8:45 am]

BILLING CODE 9110-04-P